FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 011931-006.

Title: CMA CGM/Marfret Vessel Sharing Agreement.

Parties: CMA CGM S.A; and Compagnie Maritime Marfret S.A.

Filing Party: Draughn B. Arbona, Esq.; Senior Counsel; CMA CGM (America), LLC., 5701 Lake Wright Drive, Norfolk, VA 23502-1868.

Synopsis: The amendment would provide for ad hoc space charters from CMA CGM to Marfret in the event of service disruptions due to port omissions.

Agreement No.: 012339-002.

Title: Sealand/APL West Coast of Central America Slot Charter Agreement.

Parties: APL Co. Pte Ltd/American President Lines, Ltd. (collectively “APL”); and Maersk Line A/S dba Sealand.

Filing Party: Wayne Rohde, Esq.; Cozen O'Connor; 1200 Nineteenth Street NW., Washington, DC 20036.

Synopsis: The amendment revises Article 5.1 to change the amount of space being chartered.

By Order of the Federal Maritime Commission.
Dated: June 29, 2017.
Rachel E. Dickon,
Assistant Secretary.

[FR Doc. 2017-14066 Filed 7-3-17; 8:45 am]

BILLING CODE P